DEPARTMENT OF VETERANS AFFAIRS

[OMB Control No. 2900-0829]

Agency Information Collection Activity Under OMB Review: Income and Asset Statement in Support of Claim for Pension or Parents' Dependency and Indemnity Compensation (DIC)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0829.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0829” in any correspondence.

SUPPLEMENTARY INFORMATION:

Authority: 38 U.S.C. 1503; 38 U.S.C. 1541; 38 U.S.C. 1543; 38 U.S.C. 1315.

Title: Income and Asset Statement in Support of Claim for Pension or Parents' Dependency and Indemnity Compensation (DIC).

OMB Control Number: 2900-0829.

Type of Review: Revision of a currently approved collection.

Abstract: The Department of Veterans Affairs (VA) through its Veterans Benefits Administration (VBA) administers an integrated program of benefits and services, established by law, for Veterans, service personnel, and their dependents and/or beneficiaries. Title 38 U.S.C. 5101(a), 38 CFR 1502, 38 CFR 1503 provides that a specific claim in the form provided by the Secretary must be filed in order for benefits to be paid to any individual under the laws administered by the Secretary. VA Form 21P-0969, Income and Asset Statement in Support of Claim for Pension or Parents' Dependency and Indemnity Compensation (DIC), is the prescribed form for Veterans Pension applications. The following updates were made:

• Reorganized the layout to group instructions first, then questions.

• Income and asset types reorganized for easier completion by claimants and faster processing.

• Income and Asset information has been expanded.

• Updated instructions.

• New standardization data points; to include optical character recognition boxes. This is a non-substantive change.

• Date range added to better aid in processing and allows for claimants to report historical information.

• Specific options provided for specific questions to reduce ambiguity.

• Questions regarding trusts and annuities expanded to reduce development.

• Signature blocks added to allow for standalone submissions.

An agency may not conduct or sponsor, and a person is not required to respond to a collection of information unless it displays a currently valid OMB control number. The Federal Register Notice with a 60-day comment period soliciting comments on this collection of information was published at 88 FR 43171 on July 6, 2023, pages 43171-43172.

Affected Public: Individuals and households.

Estimated Annual Burden: 22,917.

Estimated Average Burden per Respondent: 25 minutes.

Frequency of Response: One time, or as needed.

Estimated Number of Respondents: 55,000.

By direction of the Secretary.
Maribel Aponte,
VA PRA Clearance Officer, Office of Enterprise and Integration, Data Governance Analytics, Department of Veterans Affairs.

[FR Doc. 2023-22087 Filed 10-3-23; 8:45 am]

BILLING CODE 8320-01-P